DEPARTMENT OF HEALTH AND HUMAN SERVICES

National Institutes of Health

Center for Scientific Review; Amended Notice of Meeting

Notice is hereby given of a change in the meeting of the Neurobiology of Learning and Memory Study Section, October 02, 2014, 08:00 a.m. to October 03, 2014, 06:00 p.m., Embassy Suites at the Chevy Chase Pavilion, 4300 Military Road NW., Washington, DC 20015 which was published in the Federal Register on August 29, 2014, 79 FR 51579.

The meeting will be held at the Embassy Suites Washington DC—Convention Center, 900 10th Street NW., Washington, DC 20001. The meeting date and time remain the same. The meeting is closed to the public.

Dated: August 29, 2014.
Michelle Trout,
Program Analyst, Office of Federal Advisory Committee Policy.

[FR Doc. 2014-21133 Filed 9-4-14; 8:45 am]

BILLING CODE 4140-01-P